DEPARTMENT OF THE INTERIOR

National Park Service

[NPS-WASO-NAGPRA-15187; PPWOCRADN0-PCU00RP14.R50000]

Notice of Intent To Repatriate Cultural Items: Museum of Northern Arizona, Flagstaff, AZ

AGENCY: National Park Service, Interior.

ACTION: Notice.

SUMMARY: The Museum of Northern Arizona, in consultation with the appropriate Indian tribes, has determined that the cultural items listed in this notice meet the definition of unassociated funerary objects. Lineal descendants or representatives of any Indian tribe or Native Hawaiian organization not identified in this notice that wish to claim these cultural items should submit a written request to the Museum of Northern Arizona. If no additional claimants come forward, transfer of control of the cultural items to the Indian tribes stated in this notice may proceed.

DATES: Lineal descendants or representatives of any Indian tribe or Native Hawaiian organization not identified in this notice that wish to claim these cultural items should submit a written request with information in support of the claim to the Museum of Northern Arizona at the address in this notice by April 30, 2014.

ADDRESSES: Elaine Hughes, Collection Manager, Museum of Northern Arizona, 3103 North Fort Valley Road, Flagstaff, AZ 86001, telephone (928) 774-5211 email ehughes@mna.mus.az.us.

SUPPLEMENTARY INFORMATION: Notice is here given in accordance with the Native American Graves Protection and Repatriation Act (NAGPRA), 25 U.S.C. 3005, of the intent to repatriate cultural items under the control of the Museum of Northern Arizona, Flagstaff, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

All of the cultural objects described below were removed from private or state-owned lands in Coconino County, AZ, between 1932 and 1953. These objects were collected by private individuals without permission or knowledge of the landowners. Records kept by the individuals provide substantive evidence that the objects were recovered in association with human remains from prehistoric archeological sites. The human remains were not collected, so these items are considered unassociated funerary objects. In 1981, these objects were donated to the Museum of Northern Arizona, where they are currently housed. Due to the interspersed nature of the private and state land parcels and the casual nature of the excavation records, it is not possible to accurately establish the location of the sites from which the objects were removed. The site names listed below were used by the private individuals and are not official site designations.

In 1932, 16 ceramic vessels were removed from # 1 Ruin. In 1937, two ceramic vessels were removed from Two Hills. In 1938, one ceramic vessel was removed from Stuck in Cinders. In 1938, three ceramic vessels were removed from Big Apple. In 1941, one ceramic vessel was removed from Kelhem # 1 and four ceramic vessels were removed from Two Hills. In 1942, one ceramic vessel was removed from Lousey. In 1947, one ceramic vessel was removed from an unnamed site and three ceramic vessels were removed from Backache. In 1949, two ceramic vessels were removed from Sheep Fence. In 1953, three ceramic vessels were removed from Birthday. Also in 1953, seven ceramic vessels, one shell bead, and one shell bracelet were removed from Birthday.

The unassociated funerary objects listed in this notice were removed from sites related to the Northern Sinagua archeological culture. The Museum of Northern Arizona is using the cultural affiliation study completed by the USDA Forest Service in 1996 for prehistoric archeological remains in the Coconino County, AZ, region, including lands directly adjacent to the sites listed above. Based on evidence relevant to archeological, anthropological, biological, geographical, oral traditions/folklore and kinship, the USDA Forest Service established that the Northern Sinagua were most closely affiliated with the modern Hopi Tribe of Arizona. In reviewing the 1996 USDA cultural affiliation study, as well as pertinent literature in the site records at the Museum of Northern Arizona and study of the unassociated funerary objects, the Museum of Northern Arizona concurs that the objects are more closely affiliated with the modern Hopi Tribe of Arizona.

Determinations Made by the Museum of Northern Arizona

Officials of the Museum of Northern Arizona have determined that:

• Pursuant to 25 U.S.C. 3001(3)(B), the 46 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Lineal descendants or representatives of any Indian tribe or Native Hawaiian organization not identified in this notice that wish to claim these cultural items should submit a written request with information in support of the claim to Elaine Hughes, Collection Manager, Museum of Northern Arizona, 3103 North Fort Valley Road, Flagstaff, AZ 86001, telephone (928) 774-5211 email ehughes@mna.mus.az.us, by April 30, 2014. After that date, if no additional claimants have come forward, transfer of control of the unassociated funerary objects to the Hopi Tribe of Arizona may proceed.

The Museum of Northern Arizona is responsible for notifying the Havasupai Tribe of the Havasupai Reservation, Arizona; Hopi Tribe of Arizona; Hualapai Indian Tribe of the Hualapai Indian Reservation, Arizona; Navajo Nation of Arizona, New Mexico and Utah; Yavapai-Prescott Indian Tribe; and the Zuni Tribe of the Zuni Reservation, New Mexico, that this notice has been published.

Dated: March 6, 2014.
Sherry Hutt,
Manager, National NAGPRA Program.

[FR Doc. 2014-07144 Filed 3-28-14; 8:45 am]

BILLING CODE 4312-50-P